SECURITIES AND EXCHANGE COMMISSION

[Release No. 34-96354]

Order Cancelling Registrations of Certain Transfer Agents

November 18, 2022.

On September 27, 2022, notice was published in the Federal Register that the Securities and Exchange Commission (“Commission”) intended to issue an order, pursuant to section 17A(c)(4)(B) of the Securities Exchange Act of 1934 (“Act”),¹ cancelling the registrations of certain transfer agents.² For the reasons discussed below, the Commission is cancelling the registration of the transfer agents identified in the attached Appendix.

¹ 15 U.S.C. 78q-1(c)(4)(B).

² Securities Exchange Act Release No. 34-95855 (Sept. 21, 2022), 87 FR 58590 (Sept. 27, 2022).

FOR FURTHER INFORMATION CONTACT: Moshe Rothman, Assistant Director, or Catherine Whiting, Special Counsel, at (202) 551-4990, U.S. Securities and Exchange Commission, Division of Trading and Markets, 100 F Street NE, Washington, DC 20549 or by email to tradingandmarkets@sec.gov with the phrase “Order Cancelling Transfer Agent Registration” in the subject line.

Background

Section 17A(c)(4)(B) of the Act provides that if the Commission finds that any transfer agent registered with the Commission is no longer in existence or has ceased to do business as a transfer agent, the Commission shall by order cancel that transfer agent's registration. On September 27, 2022, the Commission published notice of its intention to cancel the registration of certain transfer agents whom it believed were no longer in existence or had ceased doing business as transfer agents.³

³ Id.

In the notice, the Commission identified 52 such transfer agents and stated that at any time after November 1, 2022, the Commission intended to issue an order canceling the registrations of any or all of the identified transfer agents. The Commission received no responses to the notice.

Accordingly, the Commission is cancelling the registrations of the 52 transfer agents identified in the Appendix attached to this Order.

Order

On the basis of the foregoing, the Commission finds that each of the transfer agents whose name appears in the attached Appendix either is no longer in existence or has ceased doing business as a transfer agent.

It is therefore ordered pursuant to Section 17A(c)(4)(B) of the Act that the registration as a transfer agent of each of the transfer agents whose name appears in the attached Appendix be and hereby is cancelled.

For the Commission by the Division of Trading and Markets pursuant to delegated authority.⁴

⁴ 17 CFR 200.30-3(a)(22).

Action as set forth or recommended herein approved pursuant to authority delegated by the Commission under Public Law 87-592.

For the Division of Trading and Markets.
Moshe Rothman,
Assistant Director.

J. Matthew DeLesDernier,
Deputy Secretary.

Appendix

Transfer agent name | File No.
Advanced Fund Administration, LLC | 084-06396
Ameritor Financial Corp | 084-00018
Andesa Services, Inc | 084-06233
Bank Of Commerce & Trust Co | 084-06235
Colbent Corp | 084-05927
Cronos Capital Corp | 084-00977
Donald Rivers Goolsby Whfit | 084-06560
Dynamic Transfer Services Corp | 084-06394
Fidelity Transfer Services, Inc | 084-06405
Financial Data Services Inc | 084-01339
First National Bank In Sioux Falls | 084-06228
Foresight Asset Management LLC | 084-06051
Gartmore Investors Services, Inc | 084-06229
Grohe Aktiengesellschaft | 084-06022
Gulf Registrar And Transfer Corp | 084-06136
Hartford Investor Services Co LLC | 084-05882
Interstate Transfer Co | 084-05573
M & K Produce Inc | 084-06183
National Western Life Insurance Co | 084-00693
Orbitex Fund Services Inc | 084-01493
Orion Share Transfer LLC | 084-06295
Patriot Stock Transfer LLC | 084-06382
Portfolios Inc | 084-05551
Preferred Partnership Services Inc | 084-05747
Presidential Life Corp | 084-00816
Pyxis Global Financial Services | 084-06463
Republic Stock Transfer Inc | 084-01124
Reserve Fund | 084-00449
Reserve Management Corp | 084-05838
Reserve Petroleum Co | 084-00630
Reserve Short-Term Investment Trust | 084-06156
Retirement System Consultants Inc | 084-01972
SCC Transfer, LLC | 084-06579
Seligman Common Stock Fund Inc | 084-00503
Seligman Core Fixed Income Fund Inc | 084-05921
Seligman High Income Fund Series | 084-01266
Seligman New Jersey Municipal Fund Inc | 084-01686
Seligman Pennsylvania Municipal Fund Series Inc | 084-01486
Seligman Select Municipal Fund Inc | 084-01896
Seligman Tax-Aware Fund, Inc | 084-05894
Tass LLC | 084-06115
The Provo Group, Inc | 084-05890
Travelers Rest Resort Inc | 084-06056
Truman Stock Transfer LLC | 084-06320
Universal Stock Transfer Co., Inc | 084-06308
Wall Street Transfer Agents Inc | 084-06203
West Coast Stock Transfer, Inc | 084-06138
American Heritage Stock Transfer, Inc | 084-06137
Dominion Filing And Transfer Inc | 084-06514
European Fund Services S.A | 084-06182
Pioneer Global Investments Ltd | 084-05682
Law Debenture Trust Co Of New York | 084-06087

[FR Doc. 2022-25665 Filed 11-23-22; 8:45 am]

BILLING CODE 8011-01-P